DEPARTMENT OF HEALTH AND HUMAN SERVICES

National Institutes of Health

Submission for OMB Review; Comment Request; Food Reporting Comparison Study (FORCS) and Food and Eating Assessment Study (FEAST) (NCI)

SUMMARY: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on April 15, 2011 (76 FR 21383). One public comment was received on April 15 requesting a copy of the data collection package. The submission was sent to the requestor on April 21. The purpose of this notice is to allow an additional 30 days for public comment. The National Institutes of Health may not conduct or sponsor, and the respondent is not required to respond to, an information collection that has been extended, revised, or implemented on or after October 1, 1995, unless it displays a currently valid OMB control number.

Proposed Collection: Title: Food Reporting Comparison Study (FORCS) and Food and Eating Assessment Study (FEAST) (NCI). Type of Information Collection Request: Extension. Need and Use of Information Collection: The title of this collection was previously, “24-Hour Dietary Recall Method Comparison and the National Cancer Institute (NCI) Observational Feeding Studies.” The objective of the two studies is to compare the performance of the newly developed computerized Automated Self-Administered 24-Hour Recall (ASA24) approach to collecting 24-hour recall (24HR) data with the current standard, the interviewer-administered Automated Multiple Pass Method (AMPM). The ultimate goal is to determine to what extent the new automated instrument can be used instead of the more expensive interviewer-administered instrument in the collection of dietary intake data. Frequency of Response: Twice. Affected Public: Individuals. Type of Respondents: For the FORCS study, approximately 1,200 adult members from three health maintenance organization plans (in Minnesota, California, and Michigan) between ages 20 and 70 years. For the FEAST study, approximately 90 adult residents from the Washington, DC metropolitan area between ages 20 and 70 years. The annual reporting burden is estimated at 866 hours (see table below). This amounts to an estimated 2598 burden hours over the 3-year data collection period with a total cost to the respondents $54,293. There are no Capital costs, Operating costs, and/or Maintenance costs to report.

Participants and study | Questionnaire | Number of respondents | Frequency of response | Average time per response minutes/hour | Annual hour burden
| Refusal Reasons and Demographics (Attach 4A, Screen 8) | 1770 | 1 | 5/60 (0.083) | 148
| Contact Information (Attach 4A, Screen 5) | 400 | 1 | 5/60 (0.083) | 33
| Screener (Attach 5) | 400 | 1.00 | 5/60 (0.083) | 33
General Public for FORCS | AMPM (Attach 1) | 400 | 1.00 | 30/60 (0.50) | 200
| ASA24 (Attach 2) | 400 | 1.00 | 30/60 (0.50) | 200
| Demographics and Health Questionnaire (Attach 6) | 360 | 1.00 | 10/60 (0.167) | 60
| Demographics, Health and Preference Questionnaire (Attach 7) | 360 | 1.00 | 15/60 (0.25) | 90
| Screener (Attach 8) | 33 | 1.00 | 5/60 (0.083) | 6
| Reminder Telephone Call (Attach 10) | 33 | 1.00 | 5/60 (0.083) | 6
General Public for FEAST | Eating 3 meals | 33 | 1.00 | 135/60 (2.25) | 151
| Either AMPM or ASA24 (Attach 1 or 2) | 33 | 1.00 | 30/60 (0.50) | 34
| Demographics and Health Questionnaire (Attach 12) | 33 | 1.00 | 10/60 (0.167) | 11
|  | 3485 |  |  | 866

Request for Comments: Written comments and/or suggestions from the public and affected agencies should address one or more of the following points: (1) Whether the proposed collection of information is necessary for the proper performance of the functions of the agency, including whether the information will have practical utility; (2) The accuracy of the agency's estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, Office of Regulatory Affairs at OIRA_submission@omb.eop.gov or by fax to 202-395-6974. To request more information on the proposed project or to obtain a copy of the data collection plans, contact Frances E. Thompson, PhD, Project Officer, National Cancer Institute, NIH, EPN 4095A, 6130 Executive Boulevard MSC 7335, Bethesda, Maryland 20892-7335, or call non-toll-free number 301-594-4410, or Fax your request to 301-435-3710, or e-mail your request, including your address, to thompsof@mail.nih.gov.

Comments Due Date: Comments regarding this information collection are best assured of having their full effect if received within 30 days of the date of this publication.

Dated: June 27, 2011.
Vivian Horovitch-Kelley,
NCI Project Clearance Liaison, National Institutes of Health.

[FR Doc. 2011-16613 Filed 6-30-11; 8:45 am]

BILLING CODE 4140-01-P